DEPARTMENT OF COMMERCE

National Oceanic and Atmospheric Administration

[I.D. 040501A]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from April 24-26, 2001.

DATES: The meetings are scheduled as follows:

1. April 24, 2001, 8:30 a.m.- 4:30 p.m.

2. April 25, 2001, 9 a.m.- 4:30 p.m.

3. April 26, 2001, 8 a.m.-11 a.m.

ADDRESSES: The meetings will be held at The Island House Hotel, 26650 Perdido Beach Boulevard, Orange Beach, AL. Requests for special accommodations may be directed to MAFAC, Office of Operations, Management and Information, NMFS, 1315 East-West Highway, Silver Spring, MD 20910.

FOR FURTHER INFORMATION CONTACT: Laurel Bryant, Designated Federal Official; telephone: (301) 713-2259.

SUPPLEMENTARY INFORMATION: As required by section 10(a) (2) of the Federal Advisory Committee Act, 5 U.S.C. App. (1982), notice is hereby given of meetings of MAFAC and MAFAC Subcommittees. MAFAC was established by the Secretary of Commerce (Secretary) on February 17, 1972, to advise the Secretary on all living marine resource matters that are the responsibility of the Department of Commerce. This Committee ensures that the living marine resource policies and programs of the Nation are adequate to meet the needs of commercial and recreational fisheries, and of environmental, state, consumer, academic, tribal, and other national interests.

Matters to Be Considered

April 24, 2001

General Overview of Agency initiatives, Budget Reports FY01 status and FY02 request

April 25, 2001

Full Committee discussion of National Environmental Policy Act and coordinate with other legislative mandates of the Steering Committee. Kammer Report and MAFAC Views Paper

April 26, 2001

Wrap-up reports and adjourn

Time will be set aside for public comment on agenda items.

Special Accommodations

These meetings are physically accessible to people with disabilities. Requests for sign language interpretation or other auxiliary aids should be directed to MAFAC (see ADDRESSES).

Dated: April 9, 2001.
William T. Hogarth,
Acting Assistant Administrator, National Marine Fisheries Service

[FR Doc. 01-9267 Filed 4-13-01; 8:45 am]

BILLING CODE 3510-22-S